FEDERAL ACCOUNTING STANDARDS ADVISORY BOARD

Notice of Meeting

AGENCY: Federal Accounting Standards Advisory Board.

ACTION: Notice of Meeting for July 2002.

Board Action: Pursuant to the Federal Advisory Committee Act (Pub. L. No. 92-463), as amended, and the FASAB Rules of Procedure, as amended in October, 1999, notice is hereby given that the Federal Accounting Standards Advisory Board (FASAB) will meet on Monday, July 29 and Tuesday, July 30, 2002, in room 5N30 of the GAO Building, beginning at 9 a.m. and concluding at 5 p.m. each day.

The purpose of the meeting is an educational program designed to cover federal financial management issues for three newly appointed Board members.

Following the July meeting, the schedule for the next three meetings of the Board is as follows:

—Wednesday and Thursday, August 7 and 8, 2002;

—Wednesday and Thursday, October 9 and 10, 2002;

—Wednesday and Thursday, December 11 and 12, 2002.

The purpose of these meetings will be to discuss issues related to:

—Stewardship Reporting;

—National Defense Property, Plant & Equipment;

—Accounting and Auditing Policy Committee issues; and

—Any other topics as needed.

A more detailed agenda for each Board meeting can be seen on the FASAB Web site www.fasab.gov one week prior to each meeting. The August, October and December meetings will be held in room 7C13 of the GAO Building.

Any interested person may attend the meetings as an observer. Board discussion and reviews are open to the public. GAO Building security requires advance notice of your attendance. For the July meeting, please notify FASAB by July 22 of your planned attendance by calling 202-512-7350, and for the subsequent meetings one day prior to the respective meeting.

FOR FURTHER INFORMATION CONTACT: Wendy Comes, Executive Director, 441 G St., NW., Mailstop 6K17V, Washington, DC 20548, or call (202) 512-7350.

Authority: Federal Advisory Committee Act. Pub. L. No. 92-463.

Dated: June 20, 2002.
Wendy M. Comes,
Executive Director.

[FR Doc. 02-16129 Filed 6-25-02; 8:45 am]

BILLING CODE 1610-01-M